DEPARTMENT OF TRANSPORTATION

Federal Aviation Administration

14 CFR Part 97

[Docket No. 31249; Amdt. No. 3849]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 3, 2019. The compliance date for each SIAP, associated Takeoff Minimums, and ODP is specified in the amendatory provisions.

The incorporation by reference of certain publications listed in the regulations is approved by the Director of the Federal Register as of May 3, 2019.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73125. Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on April 19, 2019.
Rick Domingo,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 20 June 2019

Prattville, AL, Prattville—Grouby Field, Takeoff Minimums and Obstacle DP, Amdt 2

Tucson, AZ, Tucson Intl, RNAV (GPS) Z RWY 11L, Amdt 1C

Tucson, AZ, Tucson Intl, RNAV (GPS) Z RWY 29R, Amdt 2D

Lincoln, CA, Lincoln Rgnl/Karl Harder Field, RNAV (GPS) RWY 15, Orig-A

Mountain View, CA, Moffett Federal Afld, ILS OR LOC RWY 32R, Amdt 1

San Diego, CA, Brown Field Muni, VOR OR GPS-A, Amdt 4, CANCELLED

San Diego, CA, Brown Field Muni, VOR OR TACAN-A, Orig

Stockton, CA, Stockton Metropolitan, RNAV (GPS) RWY 29R, Amdt 2

Truckee, CA, Truckee-Tahoe, RNAV (GPS)-A, Orig

Lake Wales, FL, Lake Wales Muni, RNAV (GPS) RWY 6, Orig-C

New Smyrna Beach, FL, Massey Ranch Airpark, RNAV (GPS) RWY 18, Orig, CANCELLED

New Smyrna Beach, FL, Massey Ranch Airpark, RNAV (GPS) RWY 36, Orig, CANCELLED

New Smyrna Beach, FL, Massey Ranch Airpark, RNAV (GPS)-A, Orig

New Smyrna Beach, FL, Massey Ranch Airpark, RNAV (GPS)-B, Orig

New Smyrna Beach, FL, New Smyrna Beach Muni, Takeoff Minimums and Obstacle DP, Amdt 3

Fort Stewart (Hinesville), GA, Wright AAF (Fort Stewart)/Midcoast Rgnl, RNAV (GPS) RWY 6L, Amdt 1

Fort Stewart (Hinesville), GA, Wright AAF (Fort Stewart)/Midcoast Rgnl, Takeoff Minimums and Obstacle DP, Amdt 1

Macon, GA, Middle Georgia Rgnl, RNAV (GPS) RWY 23, Amdt 2F

Millen, GA, Millen, RNAV (GPS) RWY 17, Amdt 3

Millen, GA, Millen, RNAV (GPS) RWY 35, Amdt 2

Hilo, HI, Hilo Intl, RNAV (GPS) RWY 26, Amdt 1

Burlington, IA, Southeast Iowa Rgnl, ILS OR LOC RWY 36, Amdt 10C

Burlington, IA, Southeast Iowa Rgnl, RNAV (GPS) RWY 12, Amdt 1B

Burlington, IA, Southeast Iowa Rgnl, RNAV (GPS) RWY 36, Amdt 1A

Burlington, IA, Southeast Iowa Rgnl, VOR RWY 12, Amdt 6D

Burlington, IA, Southeast Iowa Rgnl, VOR RWY 30, Amdt 13D

Mattoon/Charleston, IL, Coles County Memorial, ILS OR LOC RWY 29, Amdt 7

Mattoon/Charleston, IL, Coles County Memorial, VOR RWY 6, Amdt 13B, CANCELLED

Mattoon/Charleston, IL, Coles County Memorial, VOR RWY 24, Amdt 11B, CANCELLED

Marion, IN, Marion Muni, ILS OR LOC RWY 4, Amdt 8

Marion, IN, Marion Muni, RNAV (GPS) RWY 4, Amdt 1

Marion, IN, Marion Muni, RNAV (GPS) RWY 22, Amdt 1

Marion, IN, Marion Muni, RNAV (GPS) RWY 33, Orig-D

Marion, IN, Marion Muni, Takeoff Minimums and Obstacle DP, Amdt 1

Montague, MA, Turners Falls, RNAV (GPS)-B, Orig-A

Montague, MA, Turners Falls, Takeoff Minimums and Obstacle DP, Amdt 2

Montague, MA, Turners Falls, VOR-A, Amdt 4A

Detroit, MI, Detroit Metropolitan Wayne County, RNAV (GPS) Z RWY 4L, Orig-A

Detroit, MI, Detroit Metropolitan Wayne County, RNAV (GPS) Z RWY 22R, Orig-A

Duluth, MN, Duluth Intl, RADAR-1, Orig

Grand Rapids, MN, Grand Rapids/Itasca Co-Gordon Newstrom Fld, Takeoff Minimums and Obstacle DP, Amdt 4A

Hammonton, NJ, Hammonton Muni, RNAV (GPS) RWY 3, Amdt 1D

Hammonton, NJ, Hammonton Muni, VOR-B, Amdt 2D

Fallon, NV, Fallon Muni, Takeoff Minimums and Obstacle DP, Amdt 1A

Norwich, NY, Lt Warren Eaton, RNAV (GPS) RWY 19, Amdt 1A

Piseco, NY, Piseco, RNAV (GPS) RWY 4, Orig-B

Oklahoma City, OK, Will Rogers World, ILS OR LOC RWY 17R, ILS RWY 17R SA CAT II, Amdt 13

Oklahoma City, OK, Will Rogers World, RNAV (GPS) Y RWY 17R, Amdt 5

Oklahoma City, OK, Will Rogers World, RNAV (RNP) Z RWY 17R, Amdt 2

Pierre, SD, Pierre Rgnl, RNAV (GPS) RWY 31, Orig-B

Bristol/Johnson/Kingsport, TN, Tri-Cities, ILS OR LOC RWY 5, Amdt 3D

Bristol/Johnson/Kingsport, TN, Tri-Cities, ILS OR LOC RWY 23, ILS RWY 23 SA CAT I, ILS RWY 23 CAT II, Amdt 24H

Bristol/Johnson/Kingsport, TN, Tri-Cities, RNAV (GPS) RWY 5, Amdt 1D

Bristol/Johnson/Kingsport, TN, Tri-Cities, RNAV (GPS) RWY 27, Amdt 1B

Brownsville, TX, Brownsville/South Padre Island Intl, ILS OR LOC RWY 13, Orig-B

Houston, TX, Houston-Southwest, LOC RWY 9, Amdt 4

Houston, TX, William P Hobby, LOC RWY 22, Amdt 2

Yakima, WA, Yakima Air Terminal/McAllister Field, COPTER NDB RWY 27, Amdt 2A, CANCELLED

Yakima, WA, Yakima Air Terminal/McAllister Field, ILS OR LOC RWY 27, Amdt 1

Yakima, WA, Yakima Air Terminal/McAllister Field, ILS Z RWY 27, Amdt 27B, CANCELLED

Watertown, WI, Watertown Muni, Takeoff Minimums and Obstacle DP, Amdt 1

Buckhannon, WV, Upshur County Rgnl, RNAV (GPS) RWY 11, Amdt 2C

Buckhannon, WV, Upshur County Rgnl, RNAV (GPS) RWY 29, Amdt 2C

Buckhannon, WV, Upshur County Rgnl, VOR-A, Amdt 1B

Lewisburg, WV, Greenbrier Valley, RNAV (GPS) RWY 22, Amdt 1A

Parkersburg, WV, Mid-Ohio Valley Rgnl, Takeoff Minimums and Obstacle DP, Amdt 3

Pineville, WV, Kee Field, Takeoff Minimums and Obstacle DP, Amdt 2

[FR Doc. 2019-08861 Filed 5-2-19; 8:45 am]

BILLING CODE 4910-13-P